DEPARTMENT OF JUSTICE

Notice of Lodging of Proposed Consent Decree Under the Clean Water Act and Oil Pollution Act

On June 3, 2019, the Department of Justice lodged a proposed Consent Decree with the United States District Court for the Western District of Washington in the lawsuit entitled United States, State of Washington through the Washington Department of Ecology, Suquamish Tribe, and Tulalip Tribes v. Port of Everett, Civil Action No. 2:19-cv-00843.

The proposed Consent Decree resolves claims alleged by the U.S. Department of the Interior, the National Oceanic and Atmospheric Administration, the State of Washington, the Suquamish Tribe, and the Tulalip Tribes (“the Port Gardner Bay Trustees”) against the Defendant Port of Everett (“the Port”) for natural resource damages caused by discharges of hazardous substances and oil to the Port Gardner Bay Area in Everett, Washington. The settlement requires the Port to construct and maintain the Blue Heron Slough Restoration Project, which will restore 338 acres of intertidal estuarine and upland habitats in the lower Snohomish River estuary, and to resolve its liability by retiring conservation bank credits equivalent to approximately 35 acres of the Project. The Port will also pay a proportionate share of assessment costs incurred by the Port Gardner Bay Trustees, totaling $703,496. The United States, on behalf of the U.S. Navy, will make a payment of $789,840 to be used towards construction of the Project, and pay assessment costs totaling $135,931. In exchange for the payment from the Navy and prior settlement payments from other parties, the Port will retire additional conservation bank credits equivalent to approximately 36 additional acres of the Project. The Port and the Navy will receive covenants not to sue under federal statutory law and state statutory or common law, for natural resource damages caused by discharges of hazardous substances and oil from their facilities (identified in Appendix B to the Decree) to the Port Gardner Bay Area.

The publication of this notice opens a period for public comment on the Consent Decree. Comments should be addressed to the Assistant Attorney General, Environment and Natural Resources Division, and should refer to United States, State of Washington through the Washington Department of Ecology, Suquamish Tribe, and Tulalip Tribes v. Port of Everett, D.J. Ref. No. 90-11-3-10859/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $47.00 (25 cents per page reproduction cost) payable to the United States Treasury. For a paper copy without appendices, the cost is $19.00.

Susan Akers,
Assistant Section Chief, Environmental Enforcement Section, Environment and Natural Resources Division.

[FR Doc. 2019-11981 Filed 6-6-19; 8:45 am]

BILLING CODE 4410-15-P